DEPARTMENT OF DEFENSE

Office of the Secretary

Subcommittee Site Visit of the President's Commission on Care for America's Returning Wounded Warriors

AGENCY: Department of Defense.

ACTION: Notice.

SUMMARY: Pursuant to Section 10(a), Public Law 92-462, as amended, notice is hereby given of a forthcoming subcommittee site visit of the President's Commission on America's Returning Wounded Warriors. The purpose of the subcommittee site visit is to gather information.

DATES: Tuesday, 8 May 2007.

Location: Richmond, Virginia, McGuire Veterans Affairs Medical Center, 1201 Broad Rock Blvd, Phone 804-675-5000.

FOR FURTHER INFORMATION CONTACT: Col. Denise Daily, 703-588-0439.

SUPPLEMENTARY INFORMATION: None.

Note: Exact order and topics may vary.

Dated: April 19, 2007.
L.M. Bynum,
Alternate OSD Federal Register Liaison Officer, DoD.

[FR Doc. 07-2041 Filed 4-24-07; 8:45am]

BILLING CODE 5001-06-M